FEDERAL COMMUNICATIONS COMMISSION

47 CFR Part 73

[MB Docket No. 21-254; RM-11911; DA 21-1039; FR ID 45276]

Television Broadcasting Services Fredericksburg, Texas.

AGENCY: Federal Communications Commission.

ACTION: Final rule.

SUMMARY: On June 16, 2021, the Media Bureau, Video Division (Bureau) issued a Notice of Proposed Rulemaking (NPRM) in response to a petition for rulemaking filed by Corridor Television, L.L.P. (Petitioner), the licensee of KCWX (MyNetwork), channel 5, Fredericksburg, Texas, requesting the substitution of channel 8 for channel 5 at Fredericksburg in the DTV Table of Allotments. For the reasons set forth in the Report and Order referenced below, the Bureau amends FCC regulations to substitute channel 8 for channel 5 at Fredericksburg.

DATES: Effective August 31, 2021.

FOR FURTHER INFORMATION CONTACT: Joyce Bernstein, Media Bureau, at (202) 418-1647 or Joyce.Bernstein@fcc.gov.

SUPPLEMENTARY INFORMATION: The proposed rule was published at 86 FR 33612 on June 25, 2021. The Petitioner filed comments in support of the petition reaffirming its commitment to apply for channel 8. The Petitioner states that since it converted to digital channel 5 operations in 2009, it has received numerous complaints from the public about poor reception, and while it is operating with an effective radiated power of 45 kW, this power increase did not resolve the reception issues. The Petitioner recounts the steps it has taken to improve reception on its low-VHF channel, including obtaining authorizations for digital replacement translators, but concludes that it has no option to resolve the Station's reception problems other than to move from its low-VHF channel 5 to high-VHF channel 8. The Petitioner proposes to utilize a Distributed Transmission System (DTS) facility comprised of six single frequency network (SFN) nodes and identified three separate loss areas. The Petitioner submitted documentation showing that one loss area would continue to be served by five other full-power television stations and another loss area would continue to be served by eight other full-power television stations. While the third loss area would only continue to receive service from one full-power television stations, only 14 people live in this area.

This is a synopsis of the Commission's Report and Order, MB Docket No. 21-254; RM-11911; DA 21-1039, adopted August 23, 2021, and released August 24, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (i), amend the Post-Transition Table of DTV Allotments, under Texas, by revising the entry for “Fredericksburg” to read as follows:

§ 73.622 Digital television table of allotments.

* * * * *

(i) * * *

Community | Channel No.
* * * * *
TEXAS
* * * * *
Fredericksburg | 8
* * * * *

[FR Doc. 2021-18782 Filed 8-30-21; 8:45 am]

BILLING CODE 6712-01-P